GENERAL SERVICES ADMINISTRATION

[Notice-MG-2020-02; Docket No. 2020-0002; Sequence No. 3]

Office of Federal High-Performance Buildings; Green Building Advisory Committee; Notification of Upcoming Conference Calls

AGENCY: Office of Government-wide Policy, General Services Administration (GSA).

ACTION: Meeting notice.

SUMMARY: Notice of this meeting and these conference calls is being provided according to the requirements of the Federal Advisory Committee Act. This notice provides the agendas and schedules for the June 11, 2020 meeting of the Green Building Advisory Committee (the Committee) and the schedule for a series of conference calls for two task groups of the Committee. The in-person meeting is open to the public and the site is accessible to individuals with disabilities. The task group conference calls are open for the public to listen in. Interested individuals must register to attend as instructed below under Supplementary Information.

DATES: Meeting date: The spring meeting of the Committee will be held on Thursday, June 11, 2020, from 10:00 a.m. to 4:00 p.m. Eastern time (ET), at 1800 F Street NW, Washington, DC 20405, Room 1425.

The Renewables Outleasing Task Group will hold recurring, biweekly conference calls on Tuesdays from February 4, 2020, through July 28, 2020, from 4:00 p.m. to 5:00 p.m., ET.

The Embodied Energy Task Group will hold recurring, weekly conference calls on Wednesdays from January 29, 2020, through July 29, 2020, from 1:00 p.m. to 2:00 p.m., ET.

FOR FURTHER INFORMATION CONTACT: Mr. Ken Sandler, Designated Federal Officer, Office of Federal High-Performance Buildings, Office of Government-wide Policy, General Services Administration, 1800 F Street NW, (Mail-code: MG), Washington, DC 20405, at ken.sandler@gsa.gov. Additional information about the Committee, including meeting materials and agendas, will be available on-line at http://www.gsa.gov/gbac.

SUPPLEMENTARY INFORMATION:

Procedures for Attendance and Public Comment

Contact Mr. Ken Sandler at ken.sandler@gsa.gov to register to attend the in-person meeting or listen to any of these conference calls. To attend any of these events, submit your full name, organization, email address, and phone number, and which you would like to attend. Requests to attend the conference calls must be received by 5:00 p.m. ET, on Monday, January 27, 2020. (GSA will be unable to provide technical assistance to any listener experiencing technical difficulties. Testing access to the Web meeting site before the calls is recommended.) Requests to attend the June 11, 2020 meeting must be received by 5:00 p.m., ET, on Friday, April 3, 2020.

Contact Mr. Sandler to register to comment during the June 11, 2020 meeting public comment period. Registered speakers/organizations will be allowed a maximum of five minutes each, and will need to provide written copies of their presentations. Requests to comment at the meeting must be received by 5:00 p.m., ET, on Friday, April 3, 2020.

Background

The Administrator of GSA established the Committee on June 20, 2011 (Federal Register/Vol. 76, No. 118) pursuant to Section 494 of the Energy Independence and Security Act of 2007 (EISA, 42 U.S.C. 17123). Under this authority, the Committee provides independent policy advice and recommendations to GSA to advance federal building innovations in planning, design, and operations to reduce costs, enable agency missions, enhance human health and performance, and minimize environmental impacts.

The Renewables Outleasing Task Group will explore third-party, onsite, renewable power generation, with a focus on solar power and perhaps energy storage, on federal building roofs, parking lots, garages and other parcels where conducive.

The Embodied Energy Task Group will study the energy savings as well as pollution and cost savings to be garnered by a more precise focus on the energy embodied in Federal building construction and major renovation.

The conference calls will allow the task groups to develop consensus recommendations to the full Committee, which will, in turn, decide whether to proceed with formal advice to GSA based upon these recommendations.

June 11, 2020 Meeting Agenda

• Updates and introductions

• Renewables outleasing task group findings & recommendations

• Lunchtime speaker (TBD)

• Embodied energy task group findings & recommendations

• Additional topics proposed by Committee members

• Public comment

• Next steps and closing comments

Dated:
Kevin Kampschroer,
Federal Director, Office of Federal High-Performance Buildings, General Services Administration.

[FR Doc. 2020-00503 Filed 1-14-20; 8:45 am]

BILLING CODE 6820-14-P